FEDERAL COMMUNICATIONS COMMISSION

47 CFR Part 73

[DA 04-2670; MM Docket No. 02-335; RM-10545]

Radio Broadcasting Services; Coopersville, Hart and Pentwater, MI

AGENCY: Federal Communications Commission.

ACTION: Final rule.

SUMMARY: This document denies a Petition for Reconsideration filed by Fort Bend Broadcasting Company directed to the Report and Order in this proceeding. See 69 FR 8334, February 24, 2004. With this action, the proceeding is terminated.

DATES: Effective September 15, 2004.

FOR FURTHER INFORMATION CONTACT: Robert Hayne, Media Bureau (202) 418-2177.

SUPPLEMENTARY INFORMATION: This is a synopsis of the Memorandum Opinion and Order in MB Docket No. 02-335 adopted September 1, 2004, and released September 3, 2004. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or www.BCPIWEB.com. The Commission will not send a copy of this Memorandum Opinion and Order pursuant to the Congressional Review Act, see 5 U.S.C. 801(a)(1)(A), because this document denied the petition for reconsideration.

Federal Communications Commission.
John A. Karousos,
Assistant Chief, Audio Division, Media Bureau.

[FR Doc. 04-20788 Filed 9-14-04; 8:45 am]

BILLING CODE 6712-01-P